DEPARTMENT OF THE INTERIOR

Bureau of Land Management

[BLM_HQ_FRN_MO4500174625]

National Call for Nominations for Site-Specific Advisory Committees

AGENCY: Bureau of Land Management, Interior.

ACTION: Notice of call for nominations.

SUMMARY: The purpose of this notice is to request public nominations for six of the Bureau of Land Management's (BLM) citizens' advisory committees affiliated with specific sites on the BLM's National Conservation Lands. The six advisory committees provide advice and recommendations to the BLM on the development and implementation of management plans in accordance with the statute under which the sites were established. The advisory committees covered by this request for nominations are identified below. The BLM will accept public nominations for 30 days after the publication of this notice.

DATES: All nominations must be received no later than November 24, 2023.

ADDRESSES: Nominations and completed applications should be sent to the appropriate BLM offices listed in the SUPPLEMENTARY INFORMATION section of this Notice.

FOR FURTHER INFORMATION CONTACT: Carrie Richardson, BLM Office of Communications, telephone: (202) 208-5259, email: crichardson@blm.gov. Individuals in the United States who are deaf, deafblind, hard of hearing, or have a speech disability may dial 711 (TTY, TDD, or TeleBraille) to access telecommunications relay services for contacting Carrie Richardson. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish citizen-based advisory committees that are consistent with the Federal Advisory Committee Act. The rules governing BLM Advisory Committees are found at 43 CFR 1784.

Individuals may nominate themselves or others for appointment by the Secretary. Nominees must be residents of the State in which the advisory council has jurisdiction. The BLM will evaluate nominees based on their education, training, experience, and knowledge of the geographic area covered by the advisory committees. Nominees should demonstrate a commitment to collaborative resource decision-making.

Simultaneous with this notice, BLM State Offices will issue press releases providing additional information for submitting nominations. Before including any address, phone number, email address, or other personal identifying information in the application, nominees should be aware this information may be made publicly available at any time. While the nominee can ask to withhold the personal identifying information from public review, the BLM cannot guarantee that it will be able to do so. Nomination forms and instructions can be obtained for each committee from the points of contact listed below by mail, phone request, or online at https://www.blm.gov/sites/blm.gov/files/1120-019_0.pdf.

Nominees should note the interest area(s) they are applying to represent on their application. All applications must be accompanied by letters of reference that describe the nominee's experience and qualifications to serve on the Committee from any represented interests or organizations, a completed application, and any other information that speaks to the nominee's qualifications.

New Mexico

Rio Puerco Management Committee

Jamie Garcia, BLM Albuquerque District Office, 100 Sun Avenue NE, Albuquerque, NM 87109; Phone: (505) 761-8787; Email: jagarcia@blm.gov.

The Committee consists of 15 members that represent the Rio Puerco Watershed Committee; affected Tribes and Pueblos; the U.S. Forest Service; the Bureau of Reclamation; the U.S. Geological Survey; the Bureau of Indian Affairs; the U.S. Fish and Wildlife Service; the U.S. Army Corps of Engineers; the Environmental Protection Agency; the Natural Resources Conservation Service; the State of New Mexico, including the New Mexico Environment Department of the State engineer; affected local soil and water conservation districts; the Elephant Butte Irrigation District; a private landowner; and a representative of the public at large.

Oregon/Washington

Steens Mountain Advisory Council (SMAC)

Tara Thissell, BLM Burns District Office, 28910 Hwy 20 West, Hines, OR 97738; Phone: (541) 573-4519: Email: tthissell@blm.gov.

The SMAC consists of 12 members that are representative of the varied groups with an interest in the management of the Steens Mountain Cooperative Management and Protection Area (CMPA) including a private landowner in the CMPA; two persons who are grazing permittees on Federal lands in the CMPA; a person interested in fish and recreational fishing within the CMPA; a member of the Bums Paiute Tribe; two persons who are recognized environmental representatives, one of whom shall represent the State as a whole, and one of whom is from the local area; a representative of dispersed recreation; a recreational permit holder or a person who is a representative of a commercial recreation operation in the CMPA; a representative of mechanized or consumptive recreation; a person who has no financial interest in the CMPA, to represent statewide interests; and a non-voting State government liaison to the Council. One member will also serve as a Special Government Employee (SGE) as a person with expertise and interest in wild horse management on Steens Mountain. Please be aware that members selected to serve as SGEs will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact (202) 208-7960 or DOI_Ethics@sol.doi.gov with any questions about the ethics requirements for members appointed as SGEs.

San Juan Islands National Monument Advisory Committee (San Juan Islands MAC)

Michelle Brown, BLM Spokane District Office, 1103 N Fancher Road, Spokane Valley, WA 99212; Phone: (509) 536-1264; Email: m2brown@blm.gov.

The San Juan Islands MAC consists of 12 members that include two recreation and tourism representatives; two wildlife and ecological interest representatives; two cultural and heritage interest representatives; two members of the public-at-large; a Tribal interests representative; a local government representative; an education and interpretation interests representative; and a private landowner representative.

Utah

Bears Ears National Monument Advisory Committee (Bears Ears MAC)

Rachel Wootton, BLM Monticello Field Office, 365 North Main, Monticello, UT 84535; Phone: (385) 235-4364; Email: rwootton@blm.gov.

The Bears Ears MAC includes 15 members. Thirteen members will serve as representatives of commodity, non-commodity, and local area interests, including an elected official from San Juan County; a representative of state government; a representative from the conservation community; a representative of livestock grazing permittees; three representatives representing Tribal interests; a representative of developed outdoor recreation activities; a representative of developed outdoor recreation, off-highway vehicle users, or commercial recreation activities; a representative of dispersed recreation activities; a private landowner; a local business owner; and two representatives of the public-at-large. Two members will serve as SGEs for the following areas of expertise: paleontology and archaeology/history.

Grand Staircase-Escalante National Monument Advisory Committee (Grand Staircase-Escalante MAC)

David Hercher, BLM Paria River District Office, 669 South Highway 89A, Kanab, UT 84741; Phone: (435) 899-0415; Email: dhercher@blm.gov.

The Grand Staircase-Escalante MAC includes 15 members. Nine members will serve as representatives of commodity, non-commodity, and local area interests, including elected officials from Garfield and Kane County; a representative of State government; a representative of Tribal government with ancestral interest in the Monument; an educator; a conservationist; an outfitter and guide operating within the Monument, to represent commercial recreation activities in the Monument; a livestock grazing permittee operating within the Monument; and a representative of dispersed recreation. Six members will serve as SGEs for each of the following areas of expertise: paleontology; archaeology; geology; botany or wildlife biology; history or social science; and systems ecology.

San Rafael Swell Recreation Area Advisory Council

Angela Hawkins, BLM Green River District Office, 170 South 500 East Vernal, UT 84078; Phone: (435) 781-2774; Email: ahawkins@blm.gov.

The Council consists of seven members that represent the Emery County Commission; motorized recreational users; non-motorized recreational users; a grazing allotment permittee within the Recreation Area or wilderness areas designated; conservation organizations; a member with expertise in the historical uses of the Recreation Area; and an elected leader of a federally recognized Tribe that has significant cultural or historic connections to, and expertise in, the landscape, archeological sites, or cultural sites within the County.

(Authority: 43 CFR 1784.4-1)

Jeffrey Krauss,
Assistant Director for Communications.

[FR Doc. 2023-23536 Filed 10-24-23; 8:45 am]

BILLING CODE 4331-31-P